DEPARTMENT OF COMMERCE

Census Bureau

Proposed Information Collection; Comment Request; 2012 National Census Test

AGENCY: U.S. Census Bureau, Department of Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before May 7, 2012.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Jason Machowski, Bureau of the Census, HQ-3H468F, Washington, DC 20233; (301) 763-4173 or jason.d.machowski@census.gov.

SUPPLEMENTARY INFORMATION:

I. Abstract

The Census Bureau must conduct a series of research projects and tests throughout this decade to fulfill its commitment to provide the public with an option to complete their 2020 Decennial Census questionnaire on the Internet. One of the first tests to support this planning effort is the 2012 National Census Test. It has two primary objectives.

The main objective is to test new, dynamic approaches for collecting the number of people in a household, which are not feasible on a paper questionnaire. The standard paper questionnaire used in the census typically begins with a set of instructions or residence rules to guide the respondent on whom to include as members of the household as of a set reference date. Furthermore, the questionnaire later poses questions to the respondent that ask about people who the respondent may have missed (undercounted) or included by mistake (overcounted). An Internet data collection mode, on the other hand, allows the Census Bureau to guide the respondent through the residence rules using a series of questions and conditional probes, to better understand who was living in the household on the reference day.

For the 2012 National Census Test, the Census Bureau aims to optimize the presentation of its residence rules on an Internet data collection instrument and to identify validated methods for determining the appropriate number of people in a household in accordance with its residence rules. To fully assess the validity of the new approaches, a real-time, targeted, probing, coverage reinterview will be conducted by telephone with a sample of households that respond by Internet. The purpose of this reinterview is to evaluate the accuracy of within-household coverage by comparing the final household population roster collected via each Internet coverage approach to the final roster collected via telephone. The goal is to obtain a “truth” measure for who was living in the household on the reference day. This is the main goal of the test and other objectives will be secondary. These secondary objectives will not drive the sample size of the 2012 National Census Test.

A secondary objective of the 2012 National Census Test is to obtain response rate indicators. The Census Bureau will study the relative response rates associated with various contact strategies under a Push Internet methodology. Under a Push Internet methodology, households do not receive a questionnaire in the initial mailing. Questionnaires will be sent to households who have failed to respond on the Internet by a pre-determined date. Planned contact strategies build off previous Census and American Community Survey research and include alternate reminder and/or replacement questionnaire approaches as well as varying the timing of the replacement questionnaire. The key analytical measures expected from this data collection include response rates, return rates, percent of Internet returns, and speed of returns. More discussion on contact strategies under consideration appears in the following section, Method of Collection.

Without impact to sample size, the 2012 National Census Test offers the opportunity to gain knowledge about how to optimize the presentation of the race and Hispanic origin questions, as well as age and date of birth for the Internet mode.

Based on preliminary results from the 2010 Alternative Questionnaire Experiment, the combined race and Hispanic origin question approach appears to be a promising strategy for collecting these data items. The Census Bureau plans to further this research by implementing two versions of a combined race and Hispanic origin question as part of the 2012 National Census Test. In addition, this data collection will incorporate the use of predictive text (that is, the open-ended text boxes in the race and Hispanic origin questions will produce a dynamic drop-down list of suggested options based on the initial text string entered in the box). The use of predictive text will automate and streamline the race and Hispanic origin coding process. This component allows for near-real-time data processing by increasing the speed of automated coding, thus reducing and/or eliminating back-end processing.

Results from recent Census Bureau Internet studies suggest that vast improvements can be made in the presentation of age and date of birth questions in the self-response Internet mode. The Census Bureau plans to test one or two new approaches for optimizing age and date of birth presentation on the Internet. Plans include reducing the lengthy edits associated with the questions and/or using drop down menus for month, day, and year.

The results from the 2012 National Census Test will inform internal planning decisions that will guide the design of additional 2020 Decennial Census Internet testing later this decade. The results from this test will inform planning for both the next decennial census as well as the American Community Survey.

II. Method of Collection

The Census Bureau will conduct the 2012 National Census Test with a national sample of 80,000 households. The Census Bureau estimates a 45% response rate overall and a 25% Internet response rate. About one-half of Internet respondents will fall into the reinterview sample.

All contact strategy approaches tested in this data collection will be implemented using a Push Internet methodology. That is, households will receive a paper questionnaire only if they fail to respond by a predetermined date. To optimize the implementation of a Push Internet methodology, the Census Bureau will test alternatives to the standard full implementation contact strategy typically used in the decennial census (advance letter, initial mailing, reminder postcard, replacement mailing). Census Bureau analysts will study response rates across these varying strategies with the goal of identifying the best options for use with a Push Internet methodology, which will undergo additional validation in future mid-decade census tests. Census Bureau planners have not yet finalized the contact strategy approaches for this test. The proposed plan, however, is to contact sampled households using one of six contact strategies. In addition to a control panel that uses the standard full implementation contact strategy, the experimental treatments currently under consideration are, in brief:

• Eliminating the advance letter mailing

• Adding another reminder before mailing a paper questionnaire

• Mailing the questionnaire on an accelerated schedule

• A reminder to be sent after the questionnaire mailing

• Modified wording for all mailing pieces

The Census Bureau plans to conduct the 2012 National Census Test data collection in late summer or early fall 2012. The specific data collection start and end dates along with the duration of the data collection period are still under consideration. The Census Bureau, however, expects that the duration of the data collection period will be between one and two months. This includes both the collection of self-response interviews via the Internet and paper questionnaires (returned by mail) and the real-time telephone reinterview following the Internet data collection.

III. Data

OMB Control Number: None.

Form Number: TBD.

Type of Review: Regular submission.

Affected Public: Individuals or Households.

Estimated Number of Respondents: 92,000 (80,000 initial response + 12,000 reinterview).

Estimated Time per Response: 10 minutes.

Estimated Total Annual Burden Hours: 15,334.

Estimated Total Annual Cost: There is no cost to the respondent other than his or her time.

Respondent's Obligation: Mandatory.

Legal Authority: Title 13 U.S.C. 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 2, 2012.
Glenna Mickelson,
Management Analyst, Office of the Chief Information Officer.

[FR Doc. 2012-5507 Filed 3-6-12; 8:45 am]

BILLING CODE 3510-07-P